DEPARTMENT OF HOMELAND SECURITY

Coast Guard

33 CFR Parts 140, 141, 142, 143, 144, 145, 146, and 147

46 CFR Parts 10, 11, 12, 13, 14, and 15

[Docket No. USCG-2013-0175]

RIN 1625-AC10

Training of Personnel and Manning on Mobile Offshore Units and Offshore Supply Vessels Engaged in U.S. Outer Continental Shelf Activities

AGENCY: Coast Guard, DHS.

ACTION: Proposed rule; extension of comment period.

SUMMARY: The Coast Guard is extending the comment period on the advance notice of proposed rulemaking titled, “Training of Personnel and Manning on Mobile Offshore Units and Offshore Supply Vessels Engaged in U.S. Outer Continental Shelf Activities,” published on April 14, 2014. We are extending the comment period at the request of industry to ensure stakeholders have adequate time to submit complete responses.

DATES: The comment period for the proposed rule published April 14, 2014 (79 FR 20844) is extended. Comments and related material must either be submitted to our online docket via http://www.regulations.gov on or before September 8, 2014, or reach the Docket Management Facility by that date.

ADDRESSES: You may submit comments identified by docket number USCG-2013-0175 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email Mr. Gerald Miante, Maritime Personnel Qualifications Division (CG-OES-1), U.S. Coast Guard, 2703 Martin Luther King Jr. Avenue SE., Washington, DC 20593; telephone 202-372-1407, or email Gerald.P.Miante@uscg.mil. If you have questions on viewing or submitting material to the docket, call Ms. Cheryl Collins, Program Manager, Docket Operations, telephone 202-366-9826.

SUPPLEMENTARY INFORMATION:

I. Public Participation and Request for Comments

We encourage you to submit comments and related materials on the advance notice of proposed rulemaking (ANPRM). With the exception of confidential and sensitive comments, all comments received will be posted, without change, to http://www.regulations.gov and will include any personal information you have provided.

A. Submitting Comments

If you submit a comment, please include the docket number for this notice (USCG-2013-0175) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2013-0175” in the “Keyword” box. Click “Search” then click on the balloon shape in the “Actions” column. If you submit your comments by mail or hand delivery, submit them in an unbound format, no larger than 8 ½ by 11 inches, suitable for copying and electronic filing. If you submit your comments by mail and would like to know that they reached the Facility, please enclose a stamped, self-addressed postcard or envelope. We will consider all comments and material received during the comment period and may change this proposed rule based on your comments.

If you submit comments, do not send materials that include trade secrets, confidential, commercial, or financial information; or Sensitive Security Information to the public regulatory docket. Please submit such comments separately from other comments on the rulemaking. Comments containing this type of information should be appropriately marked as containing such information and submitted by mail to the Coast Guard point of contact listed in the FOR FURTHER INFORMATION CONTACT section.

Upon receipt of such comments, the Coast Guard will not place the comments in the public docket and will handle them in accordance with applicable safeguards and restrictions on access. The Coast Guard will hold them in a separate file to which the public does not have access, and place a note in the public docket that the Coast Guard has received such materials from the commenter. If the Coast Guard receives a request to examine or copy this information, we will treat it as any other request under the Freedom of Information Act (5 U.S.C. 552).

B. Viewing Comments and Documents

To view comments, as well as documents mentioned in this preamble as being available in the docket, go to http://www.regulations.gov, click on the “read comments” box, which will then become highlighted in blue. In the “Keyword” box insert “USCG-2013-0175” and click “Search.” Click the “Open Docket Folder” in the “Actions” column. If you do not have access to the Internet, you may view the docket online by visiting the Docket Management Facility in Room W12-140 on the ground floor of the Department of Transportation, West Building, 1200 New Jersey Avenue SE., Washington, DC 20590, between 9 a.m. and 5 p.m., Monday through Friday, except Federal holidays. We have an agreement with the Department of Transportation to use the Docket Management Facility.

C. Privacy Act

Anyone can search the electronic form of all comments received into any of our dockets by the name of the individual submitting the comment (or signing the comment, if submitted on behalf of an association, business, labor union, etc.). You may review a Privacy Act notice regarding our public dockets in the January 17, 2008, issue of the Federal Register (73 FR 3316).

II. Regulatory History and Information

On April 14, 2014, the Coast Guard published an ANPRM, “Training of Personnel and Manning on Mobile Offshore Units and Offshore Supply Vessels Engaged in U.S. Outer Continental Shelf Activities” (79 FR 20844). In the ANPRM, the Coast Guard announced that it is considering expanding current maritime safety training requirements to cover all persons other than crew working on offshore supply vessels (OSVs) and mobile offshore units (MOUs) that are involved in activities on the U.S. Outer Continental Shelf (OCS), regardless of flag. The rationale for expanding this safety training is to ensure that more effective responses and protocols are in place to address emergencies and other incidents both, onboard OSVs and MOUs that are engaged in activities on the OCS, and to thwart or mitigate potential damage to the surrounding environment where these vessels operate. Examples of safety concerns include fire, personal injuries, and abandon ship situations. Some urgent response scenarios take place in hazardous environments and under extreme weather conditions. Recent incidents involving human casualties and environmental damage underscore the need to expand training requirements to apply to persons other than crew since current safety training regulations only apply to maritime crew.

III. Reason for the Extension

On May 29, 2014, the International Association of Drilling Contractors requested that the Coast Guard extend the comment period by an additional 60 days to allow their organization, and others in the industry, more time to respond to the ANPRM and to gather the “organizational and economic data” that the Coast Guard requested in the ANPRM. The Coast Guard is extending the public comment period, as requested, to ensure that all stakeholders (industry, State and Federal Government agencies, and other individuals who would be impacted by this rulemaking) have adequate time to review and fully respond to the questions posed in the ANPRM and to any other material included in the ANPRM.

We encourage all members of the public to send comments explaining what, if any, impact this ANPRM could have on them or their organizations. Also, we ask that commenters be specific and detailed in their submissions to aid us in effectively responding to the comments, and so that we may craft regulations that will enhance existing maritime safety training.

This notice of extension is issued under the authority of 5 U.S.C. 552(a).

Dated: July 3, 2014.
J.G. Lantz,
Director of Commercial Regulations and Standards, U.S. Coast Guard.

[FR Doc. 2014-16074 Filed 7-8-14; 8:45 am]

BILLING CODE 9110-04-P